DEPARTMENT OF HEALTH AND HUMAN SERVICES

National Institutes of Health

National Institute of Allergy and Infectious Diseases; Notice of Meeting

Pursuant to section 10(d) of the Federal Advisory Committee Act, as amended (5 U.S.C. Appendix 2), notice is hereby given of the following meeting.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: Microbiology and Infectious Diseases Research Committee.

Date: March 6-8, 2000.

Open: March 6, 2000, 9:00 AM to 10:00 AM.

Agenda: Open for discussion of administrative details relating to committee business and program review.

Place: Holiday Inn Chevy Chase, Somerset Room, 5520 Wisconsin Ave., Chevy Chase, MD 20815.

Closed: March 6, 2000, 10:00 AM to adjournment.

Agenda: To review and evaluate grant applications.

Place: Holiday Inn Chevy Chase, Somerset Room, 5520 Wisconsin Ave., Chevy Chase, MD 20815.

Contact Person: Gary S. Madonna, Scientific Review Administrator, Scientific Review Program, Division of Extramural Activities, NIAID, NIH, Room 2217, 6700-B Rockledge Drive, MSC 7610, Bethesda, MD 20892-7610, 301-496-2550.

(Catalogue of Federal Domestic Assistance Program Nos. 93.855, Allergy, Immunology, and Transplantation Research; 93.856, Microbiology and Infectious Diseases Research, National Institutes of Health, HHS)

Dated: January 12, 2000.
LaVerne Y. Stringfield,
Director, Office of Federal Advisory Committee Policy.

[FR Doc. 00-1420 Filed 1-20-00; 8:45 am]

BILLING CODE 4140-01-M